DEPARTMENT OF THE INTERIOR

Minerals Management Service

Agency Information Collection Activities: Submitted for Office of Management and Budget (OMB) Review, Comment Request

AGENCY: Minerals Management Service (MMS), Interior.

ACTION: Notice of extension of a currently approved information collection (OMB Control Number 1010-0098).

SUMMARY: To comply with the Paperwork Reduction Act (PRA) of 1995 (44 U.S.C. 3501 et seq.), we are notifying you that an information collection request (ICR) titled “Office of Indian Royalty Assistance Customer Satisfaction Postcard” has been forwarded to OMB for review and approval. We are also soliciting your comments on this ICR which describes the information collection, its expected costs and burden, and how the data will be collected.

DATES: Submit written comments on or before March 23, 2001.

ADDRESSES: You may submit comments directly to the Office of Information and Regulatory Affairs, OMB, Attention: Desk Officer for the Department of the Interior (OMB Control Number 1010-0098), 725 17th Street, NW., Washington, DC 20503. Also, please submit copies of your comments to Dennis C. Jones, Regulations and FOIA Team, Minerals Management Service, Minerals Revenue Management, PO Box 25165, MS 320B2, Denver, Colorado 80225. If you use an overnight courier service, our courier address is Building 85, Room A-613, Denver Federal Center, Denver, Colorado 80225.

PUBLIC COMMENT PROCEDURE: Please submit your comments to the offices listed in the “ADDRESSES” section, or email your comments to us at MRM.comments@mms.gov. Include the title of the information collection, the OMB Control Number in the “Attention” line of your comment, and your name and return address. Submit electronic comments as an ASCII file avoiding the use of special characters and any form of encryption. If you do not receive a confirmation that we have received your email, contact Mr. Jones at (303) 231-3046, FAX (303) 231-3385. We will post all comments for public review at http://www.rmp.mms.gov.

Also, contact Mr. Jones to review paper copies of the comments. Our practice is to make comments, including names and addresses of respondents, available for public review during regular business hours at our offices in Lakewood, Colorado. Individual respondents may request that we withhold their home address from the public record, which we will honor to the extent allowable by law. There also may be circumstances in which we would withhold from the rulemaking record a respondent's identity, as allowable by law. If you request that we withhold your name and/or address, you must state this prominently at the beginning of your comment. However, we will not consider anonymous comments. We will make all submissions from organizations or businesses, and from individuals identifying themselves as representatives or officials of organizations or businesses, available for public inspection in their entirety.

FOR FURTHER INFORMATION CONTACT: Dennis C. Jones, Regulations and FOIA Team, telephone (303) 231-3046, FAX (303) 231-3385, email Dennis.C.Jones@mms.gov. You may also contact Mr. Jones to obtain at no cost a copy of our submission to OMB, which includes a copy of the postcard that will be used to collect this information.

SUPPLEMENTARY INFORMATION: Title: Office of Indian Royalty Assistance Customer Satisfaction Postcard.

OMB Control Number: 1010-0098.

Bureau Form Number: N/A.

Abstract: The Department of the Interior (DOI) is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws. The Secretary also has an Indian trust responsibility to manage Indian lands and seek advice and information from Indian beneficiaries. We perform the royalty management functions and assist the Secretary in carrying out DOI's Indian trust responsibility.

MMS's Office of Indian Royalty Assistance (OIRA) often resolves questions and issues related to individual Indian royalty payments. When an individual Indian mineral owner requests assistance from an OIRA office, we include a Customer Satisfaction Postcard, consisting of four questions, when responding to the owner's request to help us determine if our service was effective and to identify how we can improve our service.

Responses to this information collection are voluntary. No proprietary, confidential, or sensitive information is collected.

Frequency: On occasion.

Estimated Number and Description of Respondents: 200 Individual Indian mineral owners.

Estimated Annual Reporting and Recordkeeping “Hour” Burden: 7 hours.

Annual reporting/recordkeeping requirements | Frequency | No. of respondents | Burden hours | Annual burden hours
Customer Satisfaction Postcard | On occasion | 200 | 2 minutes | 7 hours

Estimated Annual Reporting and Recordkeeping “Non-hour Cost” Burden: N/A.

Comments: The PRA provides that an agency shall not conduct or sponsor, and a person is not required to respond to, a collection of information unless it displays a currently valid OMB Control Number. Section 3506(c)(2)(A) of the PRA requires each agency * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a 60-day Federal Register Notice on April 19, 2000 (65 FR 21007), with the required 60-day comment period soliciting comments on this information collection. No comments were received.

If you wish to comment in response to this notice, send your comments directly to the offices listed under the ADDRESSES section of this notice. OMB has up to 60 days to approve or disapprove the information collection but may respond after 30 days. Therefore, to ensure maximum consideration, OMB should receive public comments by March 23, 2001.

MMS Information Collection Clearance Officer: Jo Ann Lauterbach, telephone (202) 208-7744.

Dated: February 12, 2001.
Lucy Querques Denett,
Associate Director for Royalty Management.

[FR Doc. 01-4225 Filed 2-20-01; 8:45 am]

BILLING CODE 4310-MR-P